DEPARTMENT OF COMMERCE

Foreign-Trade Zones Board

[Docket 6-2000]

Proposed Foreign-Trade Zone—City of Erie (County of Erie), Pennsylvania; Application and Public Hearing

An application has been submitted to the Foreign-Trade Zones (FTZ) Board (the Board) by the Erie-Western Pennsylvania Port Authority, to establish a general-purpose foreign-trade zone in the City of Erie (County of Erie), Pennsylvania, within the Erie Customs port of entry (within the Cleveland Customs Service port area). The application was submitted pursuant to the provisions of the FTZ Act, as amended (19 U.S.C. 81a-81u), and the regulations of the Board (15 CFR Part 400). It was formally filed on March 1, 2000. The applicant is authorized to make the proposal under Pennsylvania Revised Code, Chapter 31 of Act 116 of 1978.

The proposed zone (26 acres) would be located at the Erie International Marine Terminal facility at the International Port of Erie, on the shore of Presque Isle Bay at East Bay Drive, City of Erie, Pennsylvania. The site is owned by the applicant and is currently under the management of Mountfort Terminal, Ltd., which intends to act as operator of some portion of the zone.

The application indicates a need for foreign-trade zone services in the Erie port region to serve the plastic products industry and commodities such as locomotives (GE), boilers, engines, meters, turbines, castings, forgings, pipe equipment, motors, diesel engines and paper. Several firms have indicated using zone procedures for warehousing/distribution activity. Specific manufacturing approvals are not being sought at this time. Requests would be made to the Board on a case-by-case basis.

In accordance with the Board's regulations, a member of the FTZ Staff has been designated examiner to investigate the application and report to the Board.

As part of the investigation, the Commerce examiner will hold a public hearing on April 5, 2000, 9 am, Erie County Public Library, Raymond M. Blasco, M.D., Memorial Library, H.O. Hirt Auditorium, 160 East Front Street, Erie, Pennsylvania 16507.

Public comment on the application is invited from interested parties. Submissions (original and 3 copies) shall be addressed to the Board's Executive Secretary at the address below. The closing period for their receipt is May 9, 2000. Rebuttal comments in response to material submitted during the foregoing period may be submitted during the subsequent 15-day period (to May 24, 2000).

A copy of the application and accompanying exhibits will be available during this time for public inspection at the following locations:

Erie County Public Library, Raymond M. Blasco, M.D., Memorial Library, 160 East Front Street, Erie, PA 16507.

Office of the Executive Secretary, Foreign-Trade Zones Board, Room 4008, U.S. Department of Commerce, 14th and Pennsylvania Avenue, NW, Washington, DC 20230.

Dated: March 6, 2000.
Dennis Puccinelli,
Acting Executive Secretary.

[FR Doc. 00-5938 Filed 3-9-00; 8:45 am]

BILLING CODE 3510-DS-P